OFFICE OF THE UNITED STATES TRADE REPRESENTATIVE

Generalized System of Preferences (GSP): Notice Regarding the 2016/2017 GSP Annual Product Review and Certain Country Practice Cases

AGENCY: Office of the United States Trade Representative.

ACTION: Notice of hearing and receipt of public comments.

SUMMARY: This notice announces petitions submitted in connection with the 2016/2017 GSP Annual Product Review that have been accepted for further review. This notice also sets forth the schedule for submitting comments and for a public hearing associated with the review of these petitions and products. This notice also announces the closure of the country practices review of worker rights in Fiji and Niger without change to those countries' GSP trade benefits.

FOR FURTHER INFORMATION CONTACT: Naomi Freeman, Director for GSP, Office of the United States Trade Representative, 1724 F Street NW., Washington, DC 20508. The telephone number is (202) 395-2974 and the email address is Naomi_S_Freeman@ustr.eop.gov.

DATES: The schedule for the 2016/2017 GSP Annual Product Review is set forth below: February 15, 2017—Due date for submission of comments, pre-hearing briefs and requests to appear at the GSP Subcommittee Public Hearing on the 2016/2017 GSP Annual Product Review. February 22, 2017—The GSP Subcommittee of the Trade Policy Staff Committee (TPSC) will convene a public hearing on all petitioned product additions, product removals, and competitive needs limitation (CNL) waiver petitions that were accepted for the 2016/2017 GSP Annual Product Review. The hearing will be held in Rooms 1 and 2, 1724 F Street NW., Washington, DC 20508, beginning at 9:30 a.m. March 15, 2017—Due date for submission of post-hearing comments or briefs in connection with the GSP Subcommittee Public Hearing.

April 2017—The U.S. International Trade Commission (USITC) is expected to publish a public version of its report providing advice on the probable economic effect of the prospective addition and removal of products and granting of CNL waiver petitions considered as part of 2016/2017 GSP Annual Product Review. Comments from interested parties on the USITC report on these products should be posted on www.regulations.gov in Docket Number USTR-2016-0009 following the instructions provided below and will be due ten calendar days after the date of the USITC's publication of the public version of the report. July 1, 2017—Effective date for any modifications that the President proclaims to the list of articles eligible for duty-free treatment under the GSP resulting from the 2016/2017 Annual Product Review and for determinations related to CNL waivers.

SUPPLEMENTARY INFORMATION:

Certain Country Practice Reviews

The status of country practices reviews being considered as part of the 2016/2017 GSP Annual Review is described in the list of Active and Closed Country Practices Reviews, which is available on the USTR GSP Web site at https://ustr.gov/node/6526. This list includes previously accepted country practices petitions. The United States Trade Representative, drawing on the advice of the TPSC, has decided to close the country practices review cases in docket number USTR-2013-0012 regarding worker rights in Fiji, and docket number USTR-2013-0005 regarding worker rights in Niger, in view of progress made by the governments of Fiji and Niger, respectively, in addressing worker rights issues in those countries.

Background

The GSP program provides for the duty-free importation of designated articles when imported from designated beneficiary developing countries. The GSP program is authorized by Title V of the Trade Act of 1974 (19 U.S.C. 2461, et seq.), as amended (1974 Act), and is implemented in accordance with Executive Order 11888 of November 24, 1975, as modified by subsequent Executive Orders and Presidential Proclamations.

Petitions Requesting Modifications of Product Eligibility

In a notice published in the Federal Register on August 25, 2016 (81 FR 58547), the Office of the U.S. Trade Representative (USTR) announced the initiation of the 2016/2017 GSP Annual Review and indicated that the interagency GSP Subcommittee of the TPSC was prepared to receive petitions to modify the list of products that are eligible for duty-free treatment under the GSP program and petitions to waive CNLs on imports of certain products from specific beneficiary countries.

The GSP Subcommittee of the TPSC has reviewed the product and CNL waiver petitions submitted in response to these announcements, and has decided to accept for review five petitions to add a product to the list of those eligible for duty-free treatment under GSP, one petition to remove a product from GSP eligibility for certain GSP beneficiary countries, and seven petitions to waive CNLs.

A list of petitions and products accepted for review is posted on the USTR Web site at https://ustr.gov/issue-areas/preference-programs/generalized-system-preferences-gsp/current-reviews/gsp-20162017 under the title “Petitions Accepted in the 2016/2017 GSP Annual Product Review.” This list also can be found at www.regulations.gov in Docket Number USTR-2016-0009. Acceptance of a petition indicates only that the TPSC found that the subject petition warranted further consideration and that a review of the requested action will take place.

The GSP Subcommittee of the TPSC invites comments in support of or in opposition to any petition that has been accepted for the 2016/2017 GSP Annual Product Review. The GSP Subcommittee of the TPSC will also convene a public hearing on these products and petitions. See below for information on how to submit a request to testify at this hearing.

Notice of Public Hearing

The GSP Subcommittee of the TPSC will hold a hearing on Wednesday, February 22, 2017 beginning at 9:30 a.m., for products and petitions accepted for the 2016/2017 GSP Annual Product Review. The hearing will be held at 1724 F Street NW., Washington, DC 20508 and will be open to the public. A transcript of the hearing will be made available on www.regulations.gov approximately two weeks after the hearing.

All interested parties wishing to make an oral presentation at the hearing must submit, following the “Requirements for Submissions” set out below, the name, address, telephone number, and email address (if available), of the witness(es) representing their organization by midnight, Friday, February 15, 2017. Requests to present oral testimony in connection with the public hearing must be accompanied by a written brief or summary statement, in English, and also must be received by midnight, Friday, February 15, 2017. Oral testimony before the GSP Subcommittee will be limited to five-minute presentations that summarize or supplement information contained in briefs or statements submitted for the record. Post-hearing briefs or statements will be accepted if they conform with the regulations cited below and are submitted, in English, by midnight, Friday, March 15, 2017. Parties not wishing to appear at the public hearing may submit pre-hearing and post-hearing briefs or comments by the aforementioned deadlines.

Requirements for Submissions

Submissions in response to this notice (including requests to testify, written comments, and pre-hearing and post-hearing briefs) must be submitted by the applicable deadlines set forth in this notice. All submissions must be made in English and submitted electronically via http://www.regulations.gov, using docket number USTR-2016-0009. Hand-delivered submissions will not be accepted. To make a submission using http://www.regulations.gov, enter docket number USTR-2016-0009 in the “Search for” field on the home page and click “Search.” The site will provide a search-results page listing all documents associated with this docket. Find a reference to this notice by selecting “Notice” under “Document Type” in the “Filter Results by” section on the left side of the screen and click on the link entitled “Comment Now.” The http://www.regulations.gov Web site offers the option of providing comments by filling in a “Type Comment” field or by attaching a document using the “Upload file(s)” field. The Subcommittee prefers that submissions be provided in an attached document and, in such cases, that parties note “See attached” in the “Type Comment” field on the online submission form. At the beginning of the submission, or on the first page (if an attachment) should be the following text (in bold and underlined): (1) “2016/2017 GSP Annual Product Review;” (2) the product description and related HTS tariff number; and (3) whether the document is a “Written Comment,” “Notice of Intent to Testify,” “Pre-hearing brief,” or a “Post-hearing brief.” Submissions should not exceed thirty single-spaced, standard letter-size pages in twelve-point type, including attachments. Any data attachments to the submission should be included in the same file as the submission itself, and not as separate files.

Each submitter will receive a tracking number upon completion of the submissions procedure at http://www.regulations.gov. The tracking number will be the submitter's confirmation that the submission was received into http://www.regulations.gov. The confirmation should be kept for the submitter's records. USTR is not able to provide technical assistance for the Web site. Documents not submitted in accordance with these instructions may not be considered in this review. If unable to provide submissions as requested, please contact the GSP Program at USTR to arrange for an alternative method of transmission.

Business Confidential Submissions

An interested party requesting that information contained in a submission be treated as business confidential information must certify that such information is business confidential and would not customarily be released to the public by the submitter. Confidential business information must be clearly designated as such. The submission must be marked “BUSINESS CONFIDENTIAL” at the top and bottom of the cover page and each succeeding page, and the submission should indicate, via brackets, the specific information that is confidential. Additionally, “Business Confidential” must be included in the “Type Comment” field. For any submission containing business confidential information, a non-confidential version must be submitted separately (i.e., not as part of the same submission with the confidential version), indicating where confidential information has been redacted. The non-confidential version will be placed in the docket and open to public inspection.

Public Viewing of Review Submissions

Submissions in response to this notice, except for information granted “business confidential” status under 15 CFR 2003.6, will be available for public viewing pursuant to 15 CFR 2007.6 at http://www.regulations.gov upon completion of processing, usually within two weeks of the relevant due date or date of the submission. Public versions of all documents relating to the 2016/2017 Annual Product Review will be made available for public viewing in docket USTR-2016-0009 at www.regulations.gov upon completion of processing.

Erland Herfindahl,
Deputy Assistant U.S. Trade Representative for the Generalized System of Preferences, Office of the U.S. Trade Representative.

[FR Doc. 2017-01362 Filed 1-19-17; 8:45 am]

BILLING CODE 3190-F7-P